DEPARTMENT OF LABOR

Employment and Training Administration

[NAFTA-004227]

Harriet & Henderson Yarns, Incorporated, Berryton Plant, Summerville, GA; Notice of Termination of Investigation

Pursuant to Title V of the North American Free Trade Agreement Implementation Act (Pub. L. 103-1 concerning transitional adjustment assistance, hereinafter called NAFTA-TAA and in accordance with section 250(a), Subchapter D, Chapter 2, Title II, of the Trade Act of 1974, as amended (19 USC 2331), an investigation was initiated on October 16, 2000 in response to a petition filed on behalf of workers at Harriet & Henderson Yarns, Inc., Berryton Plant, Summerville, Georgia. Workers produced cotton yarn.

The petitioner has requested that the petition be withdrawn. Consequently, further investigation in this case would serve no purpose, and the investigation has been terminated.

Signed in Washington, DC this 28th day of December 2000.
Linda G. Poole,
Certifying Officer, Division of Trade Adjustment Assistance.

[FR Doc. 01-946 Filed 1-10-01; 8:45 am]

BILLING CODE 4510-30-M